DEPARTMENT OF STATE

[Public Notice 11192]

30-Day Notice of Proposed Information Collection: Education and Cultural Affairs Monitoring and Evaluation Initiative

ACTION: Notice of request for public comment and submission to OMB of proposed collection of information.

SUMMARY: The Department of State has submitted the information collection described below to the Office of Management and Budget (OMB) for approval. In accordance with the Paperwork Reduction Act of 1995 we are requesting comments on this collection from all interested individuals and organizations. The purpose of this Notice is to allow 30 days for public comment.

DATES: Submit comments up to September 30, 2020.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Direct requests for additional information regarding the collection listed in this notice, including requests for copies of the proposed collection instrument and supporting documents, to Natalie Donahue, Chief of Evaluation, Bureau of Educational and Cultural Affairs, who may be reached at ECAEvaluation@state.gov or at 202-632-6193.

SUPPLEMENTARY INFORMATION:

• Title of Information Collection: Monitoring Data for ECA (MODE) Framework.

• OMB Control Number: None.

• Type of Request: New collection.

• Originating Office: Educational and Cultural Affairs (ECA/P/V).

• Form Number: No form.

• Respondents: ECA program participants, alumni, and host/home communities.

• Estimated Number of Participant Post-Program Survey Respondents: 66,691.

• Estimated Number of Participant Post-Program Survey Responses: 50,532.

• Average Time per Participant Post-Program Survey: 8 minutes.

• Total Estimate Participant Post-Program Survey Burden Time: 6,738 hours.

• Estimated Number of Alumni Survey Respondents: 13,591.

• Estimated Number of Alumni Survey Responses: 6,063.

• Average Time per Alumni Survey: 30 minutes.

• Total Estimated Alumni Survey Burden Time: 3,032 hours.

• Estimated Number of Host/Home Community Survey Respondents: 5,000.

• Estimated Number of Host/Home Community Survey Responses: 500.

• Average Time per Host/Home Community Survey: 20 minutes.

• Total Estimated Host/Home Community Survey Burden Time: 167 hours.

• Total Estimated Number of Respondents: 57,095.

• Total Estimated Burden Time: 9,937 hours annual hours.

• Frequency: For participants, once after program participation; for Alumni, once every one, three and five years; for host/home communities, once every year.

• Obligation to Respond: Voluntary

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The Department of State's Bureau of Educational and Cultural Affairs (ECA) regularly monitors and evaluates its programs through the collection of data about program accomplishments in order to enable program staff to assess the results of its programs, where improvements may be necessary, and to modify/plan future programs. In order to more systematically assess the efficacy and impact of ECA funded-programs and to address the requirements of the Foreign Aid Transparency and Accountability Act (FATAA) and the Department of State's updated monitoring and evaluation guidance (18 FAM 300), ECA's Evaluation Division has created a robust performance monitoring framework that is responsive to these directives, measures programmatic goals and objectives, and provides a comprehensive view of overall Bureau activities. The Monitoring Data for ECA (MODE) Framework (https://eca.state.gov/impact/eca-evaluation-division/monitoring-data-eca-mode-framework) includes a results framework with indicators designed to track program performance and the direction, pace, and magnitude of change of ECA programs—leading to strengthened feedback mechanisms resulting in more effective programs. Each of these indicators has corresponding data collection questions defined so data will be collected uniformly whether by the program office, the Evaluation Division, or an award recipient. Implementation of the MODE Framework will enable ECA to standardize and utilize its data in the following ways:

• Assess data and performance metrics to enhance program performance

• Inform strategic planning activities at the Bureau, division, and individual exchange program levels

• Supplement the information ECA program officers receive from their award recipients and exchange participants to provide a comprehensive view of programmatic activities

• Respond quickly and reliably to ad-hoc requests from Congress, the Office of Management and Budget (OMB), and internal Department of State stakeholders

In order to collect data for the MODE Framework, the ECA Evaluation Division intends to conduct ongoing surveys of program participants, alumni, and participant host and home communities to monitor program performance, assess impact, and identify issues for further evaluation. Specifically, ECA will coordinate with award recipients to provide standard survey questions for both foreign national and U.S. citizen exchange participants immediately after completing the exchange (“Participant Post-Program Survey”). ECA's Evaluation Division also intends to administer standard surveys to foreign national and U.S. citizen exchange alumni roughly one year, three years and five years after completing their exchange experience. Conducting post-program surveys, particularly after three and five years, will provide information on the impact of ECA programs and insight into the achievements of participants.

To examine multiplier effects of ECA exchange programs on foreign and U.S. communities and institutions that sponsor, support, or provide exchange programs support or services, ECA intends to administer standard surveys to foreign and U.S. host community members (individuals or institutions) where feasible.

Methodology

In previous years, the ECA Evaluation Division surveyed foreign alumni from a sample of 10 ECA programs. The suggested MODE Framework data collections represent an expansion to include American participants and standardization of the data collection tools. Additionally, ECA has not collected these data in a systematic manner from U.S. and foreign host community members in the past.

Currently, ECA award recipients administer post- program surveys to their participants as part of their internal program monitoring data collection approach. ECA intends to leverage this ongoing survey process by providing program awardees standard indicators (we estimate anywhere from 10-15 for each award) and corresponding data collection questions, depending on the program orientation. In many instances, these standard indicators and questions will supplant existing awardee defined comparable indicators and questions with ECA defined uniform data requirements. This will ensure the data ECA gathers are valid and reliable across the range of exchange programs.

Zachary Parker,
Director.

[FR Doc. 2020-19148 Filed 8-28-20; 8:45 am]

BILLING CODE 4710-05-P